ENVIRONMENTAL PROTECTION AGENCY

[FRL-8330-4]

National Advisory Council for Environmental Policy and Technology

AGENCY: Environmental Protection Agency (EPA).

ACTION: Notice of meeting.

SUMMARY: Under the Federal Advisory Committee Act, Pub. L. 92463, EPA gives notice of a meeting of the National Advisory Council for Environmental Policy and Technology (NACEPT). NACEPT provides advice to the EPA Administrator on a broad range of environmental policy, technology, and management issues. The Council is a panel of individuals who represent diverse interests from academia, industry, non-governmental organizations, and local, State, and tribal governments. The purpose of this teleconference is to discuss and approve the draft NACEPT Sustainable Water Infrastructure Workgroup recommendations and the draft NACEPT Energy and Environment Workgroup recommendations on a strategic framework for EPA's biofuels efforts. A copy of the agenda for the meeting will be posted at http://www.epa.gov/ocem/nacept/cal-nacept.htm.

DATES: NACEPT will hold a public teleconference on Monday, July 9, 2007 at 2 p.m.-4 p.m. Eastern Daylight Time.

ADDRESSES: The meeting will be held in the U.S. EPA Office of Cooperative Environmental Management at 1201 Constitution Ave, NW., EPA East Building, Room 1102, Washington, DC 20004.

FOR FURTHER INFORMATION CONTACT: Sonia Altieri, Designated Federal Officer, altieri.sonia@epa.gov, (202) 233-0061, U.S. EPA, Office of Cooperative Environmental Management (1601M), 1200 Pennsylvania Avenue, NW., Washington, DC 20460.

SUPPLEMENTARY INFORMATION: Requests to make oral comments or to provide written comments to the Council should be sent to Sonia Altieri, Designated Federal Officer, at the contact information above by Monday, July 2, 2007. The public is welcome to attend all portions of the meeting, but seating is limited and is allocated on a first-come, first-serve basis. Members of the public wishing to gain access to the conference room on the day of the meeting must contact Sonia Altieri at (202) 233-0061 or altieri.sonia@epa.gov by July 2, 2007.

Meeting Access: For information on access or services for individuals with disabilities, please contact Sonia Altieri at 202-233-0061 or altieri.sonia@epa.gov. To request accommodation of a disability, please contact Sonia Altieri, preferably at least 10 days prior to the meeting, to give EPA as much time as possible to process your request.

Dated: June 18, 2007.
Sonia Altieri,
Designated Federal Officer.

[FR Doc. E7-12159 Filed 6-21-07; 8:45 am]

BILLING CODE 6560-50-P